OFFICE OF PERSONNEL MANAGEMENT

Excepted Service

AGENCY: Office of Personnel Management (OPM).

ACTION: Notice.

SUMMARY: This notice identifies Schedule A, B, and C appointing authorities applicable to a single agency that were established or revoked from February 1, 2018 to February 28, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

14. Department of Commerce Section (Sch. A, 213.3114)

(d) Bureau of the Census

(1) Positions in support of decennial operations (including decennial pre-tests). Appointments may be made on a time limited basis that lasts the duration of decennial operations but may not exceed 7 years. Extensions beyond 7 years may be requested on a case-by-case basis.

(2) Positions of clerk, field representative, field leader, and field supervisor in support of data collection operations (non-decennial operations). Appointments may be made on a permanent or a time-limited basis. Appointments made on a time limited basis may not exceed 4 years. Extensions beyond 4 years may be requested on a case-by-case basis.

Schedule B

No schedule B Authorities to report during February 2018.

Schedule C

The following Schedule C appointing authorities were approved during February 2018.

Agency name | Organization name | Position title | Authorization No. | Effective date
DEPARTMENT OF AGRICULTURE | Office of the Secretary | Special Assistant | DA180102 | 02/06/2018
| Office of Communications | Deputy Press Secretary | DA180113 | 02/14/2018
| Office of Rural Housing Service | Senior Advisor | DA180125 | 02/20/2018
|  | Confidential Assistant | DA180128 | 02/28/2018
| Office of the Assistant Secretary for Congressional Relations | Staff Assistant (2) | DA180119 DA180118 | 02/22/2018 02/27/2018
| Office of the Assistant To the Secretary for Rural Development | Confidential Assistant | DA180129 | 02/27/2018
DEPARTMENT OF COMMERCE | Office of Scheduling and Advance | Advance Assistant | DC180076 | 02/22/2018
|  | Senior Scheduler | DC180083 | 02/22/2018
| Office of White House Liaison | Confidential Assistant | DC180087 | 02/22/2018
DEPARTMENT OF DEFENSE | Washington Headquarters Services | Defense Fellow (2) | DD180008 DD180058 | 02/05/2018 02/06/2018
| Office of the Under Secretary of Defense (Acquisition, Technology, and Logistics) | Special Assistant (Manufacturing and Industrial Base Policy) | DD180051 | 02/14/2018
| Office of the Under Secretary of Defense (Policy) | Special Assistant (Russia, Ukraine, Eurasia) | DD180059 | 02/14/2018
|  | Special Assistant (Afghanistan, Pakistan and Central Asia) | DD180056 | 02/22/2018
DEPARTMENT OF THE ARMY | Office Assistant Secretary Army (Manpower and Reserve Affairs) | Special Assistant (Manpower and Reserve Affairs) | DW170041 | 02/27/2018
DEPARTMENT OF EDUCATION | Office of Elementary and Secondary Education | Confidential Assistant | DB180026 | 02/06/2018
| Office of the Under Secretary | Executive Director, White House Initiative on Historically Black Colleges and Universities | DB180032 | 02/12/2018
| Office of Postsecondary Education | Senior Advisor | DB180033 | 02/14/2018
DEPARTMENT OF ENERGY | Office of Scheduling and Advance | Scheduler | DE180049 | 02/02/2018
| Office of Assistant Secretary for Electricity Delivery and Energy Reliability | Chief of Staff | DE180045 | 02/13/2018
| Office of the Secretary | Special Advisor | DE180034 | 02/20/2018
| Office of Under Secretary for Science | Senior Advisor | DE180048 | 02/22/2018
DEPARTMENT OF HEALTH AND HUMAN SERVICES | Office of Intergovernmental and External Affairs | Regional Director Philadelphia Region III | DH180042 | 02/06/2018
| Office of the Assistant Secretary for Health | Deputy Chief of Staff | DH180051 | 02/12/2018
DEPARTMENT OF HOMELAND SECURITY | Office of the Assistant Secretary for Public Affairs | Press Assistant | DM180083 | 02/12/2018
|  | Assistant Press Secretary | DM180104 | 02/27/2018
| Office of Partnership and Engagement | Law Enforcement Liaison | DM180092 | 02/14/2018
| Office of Federal Emergency Management Agency | Director, Individual and Community Preparedness | DM180098 | 02/20/2018
| Office of United States Customs and Border Protection | Deputy Chief of Staff | DM180091 | 02/21/2018
|  | Special Assistant | DM180102 | 02/28/2018
DEPARTMENT OF HOUSING AND URBAN DEVELOPMENT | Office of Community Planning and Development | Special Assistant | DU180045 | 02/23/2018
DEPARTMENT OF THE INTERIOR | Secretary's Immediate Office | Deputy Press Secretary | DI180019 | 02/06/2018
NATIONAL MEDIATION BOARD | Office of Legislative Affairs | Confidential Assistant | NM180005 | 02/28/2018
OFFICE OF PERSONNEL MANAGEMENT | Office of the Director | White House Liaison | PM180012 | 02/16/2018
|  | Executive Assistant | PM180008 | 02/23/2018
SECURITIES AND EXCHANGE COMMISSION | Office of the Chairman | Confidential Assistant | SE180003 | 02/07/2018
SMALL BUSINESS ADMINISTRATION | Office of Field Operations | Regional Administrator, Region III | SB170065 | 02/01/2018
|  | Regional Administrator, Region IV | SB180016 | 02/02/2018
|  | Senior Advisor | SB180017 | 02/20/2018
DEPARTMENT OF STATE | Office of Policy Planning | Special Assistant | DS180018 | 02/02/2018
| Office of the Secretary | Special Assistant (Scheduler) | DS180027 | 02/02/2018
| Office of the Chief of Protocol | Protocol Officer | DS180023 | 02/12/2018
|  | Assistant Chief of Protocol (Visits) | DS180032 | 02/02/2018
| Office to Monitor and Combat Trafficking In Persons | Special Assistant | DS180024 | 02/06/2018
| Office of the Secretary | Staff Assistant (Deputy Scheduler) | DS180026 | 02/16/2018
DEPARTMENT OF TRANSPORTATION | Office of Communications and Legislative Affairs | Director of Public Affairs | DT180020 | 02/22/2018
| Office of the Administrator | Director of Governmental and Public Affairs | DT180022 | 02/22/2018
| Office of Public Affairs | Special Assistant | DT180015 | 02/27/2018
DEPARTMENT OF THE TREASURY | Office of Legislative Affairs | Special Advisor | DY180046 | 02/27/2018

The following Schedule C appointing authorities were revoked during February 2018.

Agency | Organization | Title | Request No. | Date vacated
DEPARTMENT OF AGRICULTURE | Office of the General Counsel | Senior Counsel | DA180098 | 02/03/2018
DEPARTMENT OF COMMERCE | Office of Public Affairs | Director of Digital Strategy | DC170145 | 02/01/2018
OFFICE OF THE SECRETARY OF DEFENSE | Office of the Assistant Secretary of Defense (Legislative Affairs) | Special Assistant to the Assistant Secretary of Defense (Legislative Affairs) Chief, Research | DD170165 | 02/03/2018
DEPARTMENT OF HEALTH AND HUMAN SERVICES | Office of the Assistant Secretary for Health | Deputy Chief of Staff | DH180010 | 02/17/2018
| Office of Centers for Medicare and Medicaid Services | Senior Advisor to the Principal Deputy Administrator | DH170108 | 02/18/2018
DEPARTMENT OF HOMELAND SECURITY | Office of Federal Emergency Management Agency | Press Secretary | DM170275 | 02/12/2018
DEPARTMENT OF HOUSING AND URBAN DEVELOPMENT | Office of Congressional and Intergovernmental Relations | Advisor to Intergovernmental Relations | DU170087 | 02/03/2018
| Office of the Administration | Briefing and Book Coordinator | DU170114 | 02/03/2018
DEPARTMENT OF JUSTICE | Office of the Attorney General | Counselor | DJ170094 | 02/04/2018
| Office of Public Affairs | Press Assistant | DJ170051 | 02/09/2018
DEPARTMENT OF LABOR | Office of the Secretary | Deputy Director of Scheduling | DL170060 | 02/03/2018
DEPARTMENT OF STATE | Office of the Secretary | Special Assistant (Scheduler) | DS170164 | 02/03/2018
DEPARTMENT OF TRANSPORTATION | Office of Assistant Secretary for Governmental Affairs | Governmental Affairs Officer | DT170092 | 02/03/2018
ENVIRONMENTAL PROTECTION AGENCY | Office of the Administrator | Special Assistant for Scheduling and Advance | EP170075 | 02/17/2018
EXPORT-IMPORT BANK | Office of Communications | Senior Vice President For Communications | EB180003 | 02/03/2018
OFFICE OF PERSONNEL MANAGEMENT | Office of Congressional, Legislative, and Intergovernmental Affairs | Deputy Director | PM170050 | 02/03/2018
| Office of the Director | Deputy Chief of Staff | PM170037 | 02/17/2018

Authority: 5 U.S.C. 3301 and 3302; E.O. 10577, 3 CFR, 1954-1958 Comp., p. 218.

Office of Personnel Management.
Alexys Stanley,
Regulatory Affairs.

[FR Doc. 2018-19496 Filed 9-7-18; 8:45 am]

BILLING CODE 6325-39-P